DEPARTMENT OF ENERGY

Federal Energy Regulatory Commission

Combined Notice of Filings

Take notice that the Commission has received the following Natural Gas Pipeline Rate and Refund Report filings:

Filings Instituting Proceedings

Docket Numbers: RP22-716-000.

Applicants: Rockies Express Pipeline LLC.

Description: Compliance filing: REX 2022-03-25 Annual Purchase and Sales Report to be effective N/A.

Filed Date: 3/25/22.

Accession Number: 20220325-5088.

Comment Date: 5 p.m. ET 4/6/22.

Docket Numbers: RP22-717-000.

Applicants: Trailblazer Pipeline Company LLC.

Description: Compliance filing: TPC 2022-03-25 2021 Annual Purchase and Sales Report to be effective N/A.

Filed Date: 3/25/22.

Accession Number: 20220325-5089.

Comment Date: 5 p.m. ET 4/6/22.

Docket Numbers: RP22-718-000.

Applicants: Iroquois Gas Transmission System, L.P.

Description: Compliance filing: 3.28.22 Annual Fuel and Losses Retention Calculations to be effective N/A.

Filed Date: 3/28/22.

Accession Number: 20220328-5036.

Comment Date: 5 p.m. ET 4/11/22.

Docket Numbers: RP22-719-000.

Applicants: Horizon Pipeline Company, L.L.C.

Description: Compliance filing: Horizon Penalty Revenue Crediting Report for Year 2021 to be effective N/A.

Filed Date: 3/28/22.

Accession Number: 20220328-5039.

Comment Date: 5 p.m. ET 4/11/22.

Docket Numbers: RP22-720-000.

Applicants: Natural Gas Pipeline Company of America LLC.

Description: Compliance filing: Penalty Revenue Crediting Report from July through December 2021 to be effective N/A.

Filed Date: 3/28/22.

Accession Number: 20220328-5040.

Comment Date: 5 p.m. ET 4/11/22.

Docket Numbers: RP22-721-000.

Applicants: Natural Gas Pipeline Company of America LLC.

Description: § 4(d) Rate Filing: Negotiated Rate Agreements Filing—DK Trading and Supply LLC to be effective 4/1/2022.

Filed Date: 3/28/22.

Accession Number: 20220328-5044.

Comment Date: 5 p.m. ET 4/11/22.

Docket Numbers: RP22-722-000.

Applicants: Natural Gas Pipeline Company of America LLC.

Description: § 4(d) Rate Filing: Negotiated Rate Agreements Filing—Macquarie Energy to be effective 4/1/2022.

Filed Date: 3/28/22.

Accession Number: 20220328-5046.

Comment Date: 5 p.m. ET 4/11/22.

Docket Numbers: RP22-723-000.

Applicants: Natural Gas Pipeline Company of America LLC.

Description: § 4(d) Rate Filing: Negotiated Rate Agreements Filing—Mercuria Energy to be effective 4/1/2022.

Filed Date: 3/28/22.

Accession Number: 20220328-5047.

Comment Date: 5 p.m. ET 4/11/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-671-001.

Applicants: KO Transmission Company.

Description: Tariff Amendment: Amendment to Transportation Retainage Adjustment Filing to be effective 4/1/2022.

Filed Date: 3/10/22.

Accession Number: 20220310-5144.

Comment Date: 5 p.m. ET 3/30/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2022.
Debbie-Anne A. Reese,
Deputy Secretary.

[FR Doc. 2022-06891 Filed 3-31-22; 8:45 am]

BILLING CODE 6717-01-P